EXECUTIVE OFFICE OF THE PRESIDENT

Office of National Drug Control Policy

Designation of Twenty-six Counties as High Intensity Drug Trafficking Areas

ACTION: Notice.

SUMMARY: This notice lists twenty-six counties designated as additions to the High Intensity Drug Trafficking Areas (HIDTA) Program by the Director of the Office of National Drug Control Policy (ONDCP). These new counties are: Letcher County in Kentucky and Hamilton and Washington Counties in Tennessee as additions to the Appalachia HIDTA; Barrow, Bartow, Cherokee, Clayton, Douglas, Fayette, Forsyth and Henry Counties in Georgia and Durham, Johnston, Wake, Wayne and Wilson Counties in North Carolina as additions to the Atlanta HIDTA; Shasta County, California as an addition to the Central Valley California HIDTA; Benton, Jefferson, Pulaski and Washington Counties in Arkansas as additions to the Gulf Coast HIDTA; Rock Island County, Illinois as an addition to the Midwest HIDTA; Chester and Delaware Counties in Pennsylvania as additions to the Philadelphia/Camden HIDTA; and Midland and Ector Counties in Texas as additions to the Southwest Border HIDTA West Texas Region.

The new counties are designated pursuant to Office of National Drug Control Policy Reauthorization Act of 2006 codified at 21 USCS 1706 et seq, to promote more effective coordination of drug control efforts. In considering whether to designate an area under this section as a High Intensity Drug Trafficking Area, the Director considered, in addition to such other criteria the Director, ONDCP considers to be appropriate, the extent to which: (1) The area is a significant center of illegal drug production, manufacturing, importation, or distribution; (2) state and local law enforcement agencies have committed resources to respond to the drug trafficking problem in the area, thereby indicating a determination to respond aggressively to the problem; (3) drug-related activities in the area are having a significant harmful impact in the area, and in other areas of the country; and (4) a significant increase in allocation of Federal resources is necessary to respond adequately to drug-related activities in the area. This action will support local, state and Federal law enforcement officers in assessing regional drug threats, designing strategies to combat the threats, developing initiatives to implement the strategies, and evaluating the effectiveness of their coordinated efforts.

FOR FURTHER INFORMATION CONTACT: Comments and questions regarding this notice should be directed to Ms. Cheryl C. Nolan, Acting Deputy Director for State, Local and Tribal Affairs, Office of National Drug Control Policy, Executive Office of the President, Washington, DC 20503; (202) 395-6912.

Signed at Washington, DC, this 20th day of February, 2008.
John P. Walters,
Director.

[FR Doc. E8-3779 Filed 2-27-08; 8:45 am]

BILLING CODE 3180-02-P